DEPARTMENT OF JUSTICE

Notice of Lodging of Consent Decree Pursuant to the Comprehensive Environmental Response Compensation and Liability Act (“CERCLA”)

Notice is hereby given that on January 16, 2008, a proposed Consent Decree in United States v. Boston & Maine Corp., et al. (D. Mass.) No. 1:08-cv-10062-MBB, was lodged with the United States District Court for the District of Massachusetts.

In this action, the United States sought the recovery of response costs pursuant to Section 107(a) of the Comprehensive Environmental Response, Compensation, and Recovery Act, as amended (“CERCLA”), 42 U.S.C. 9607(a), and the performance of response actions for Operable Unit 3 of the Iron Horse Park Superfund Site from Defendants Boston & Maine Corp. (“B&M”), BNZ Materials, Inc. (“BNZ”), and the Massachusetts Bay Transportation Authority (“MBTA”). Pursuant to the proposed Consent Decree, B&M, BNZ, and MBTA agree to perform the remedial action for Operable Unit 3 at the Site, estimated to cost a total of $23.53 million, and to pay all of U.S. Environmental Protection Agency's (“EPA's”) future response costs. EPA has agreed to provide $2.5 million in preauthorized mixed funding to reimburse the Settling Defendants for a portion of the response actions to be performed. The proposed Consent decree provides the Settling Defendants with a covenant not to sue pursuant to Sections 106 and 107 of CERCLA, 42 U.S.C. 9606 and 9607, and Section 7003 of the Resource Conservation and Recovery Act (“RCRA”), 42 U.S.C. 6973. The Commonwealth of Massachusetts is also a party to the Consent Decree, and it resolves the Commonwealth's claims against B&M, BNZ, and MBTA as well.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Boston & Maine, et al. (D. Mass.) No., D.J. Ref. 90-11-3-90/2. Commenters may request an opportunity for a public meeting in the affected area, in accordance with Section 7003(d) of RCRA, 42 U.S.C. 6973(d).

The Consent Decree may be examined at the Office of the United States Attorney, 1 Courthouse Way, John Joseph Moakley Courthouse, Boston, MA 02210 and at the U.S. Environmental Protection Agency, Region 1, One Congress Street, Boston, Massachusetts 02114. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Censent Decree Library, please enclose a check in the amount of $104.25 (25 cents per page reproduction cost) payable to the U.S. Treasury, or if by email or fax, forward a check in that amount to the Consent Decree Library at the stated address. In requesting a copy exclusive of Appendices, please enclose a check in the amount of $14.75 (25 cents per page reproduction cost) payable to the U.S. Treasury.

Ronald Gluck,
Assistant Chief, Environmental Enforcement Section, Environment and Natural Resources Division.

[FR Doc. 08-410 Filed 1-30-08; 8:45 am]

BILLING CODE 4410-15-M